DEPARTMENT OF ENERGY

Federal Energy Regulatory Commission

Notice of Effectiveness of Exempt Wholesale Generator Status

| Docket Nos.
CP Bloom Wind LLC | EG17-37-000
Darby Power, LLC | EG17-38-000
Gavin Power, LLC | EG17-39-000
Lawrenceburg Power, LLC | EG17-40-000
Waterford Power, LLC | EG17-41-000
Cotton Plains Wind I, LLC | EG17-42-000
Old Settler Wind, LLC | EG17-43-000
SolaireHolman 1 LLC | EG17-44-000
Bayshore Solar A, LLC | EG17-45-000
Bayshore Solar B, LLC | EG17-46-000
Bayshore Solar C, LLC | EG17-47-000
Port Comfort Power LLC | EG17-48-000
Chamon Power LLC | EG17-49-000
Arkwright Summit Wind Farm LLC | EG17-50-000
Quilt Block Wind Farm LLC | EG17-51-000
Cube Yadkin Generation LLC | EG17-52-000
Iron Horse Battery Storage, LLC | EG17-53-000
Redbed Plains Wind Farm LLC | EG17-54-000
Meadow Lake Wind Farm V LLC | EG17-55-000

Take notice that during the month of March 2017, the status of the above-captioned entities as Exempt Wholesale Generators became effective by operation of the Commission's regulations. 18 CFR 366.7(a) (2016).

Dated: April 3, 2017.
Kimberly D. Bose,
Secretary.

[FR Doc. 2017-06933 Filed 4-6-17; 8:45 am]

BILLING CODE 6717-01-P